Title 3—

The President

Proclamation 7316 of June 2, 2000

Gay and Lesbian Pride Month, 2000

By the President of the United States of America

A Proclamation

Gay and lesbian Americans have made important and lasting contributions to our Nation in every field of endeavor. Too often, however, gays and lesbians face prejudice and discrimination; too many have had to hide or deny their sexual orientation in order to keep their jobs or to live safely in their communities.

In recent years, we have made some progress righting these wrongs. Since the Stonewall uprising in New York City more than 30 years ago, the gay and lesbian rights movement has united gays and lesbians, their families and friends, and all those committed to justice and equality in a crusade to outlaw discriminatory laws and practices and to protect gays and lesbians from prejudice and persecution.

I am proud of the part that my Administration has played to achieve these goals. Today, more openly gay and lesbian individuals serve in senior posts throughout the Federal Government than during any other Administration. To build on our progress, in 1998 I issued an Executive Order to prohibit discrimination in the Federal civilian workforce based on sexual orientation, and my Administration continues to fight for the Employment Non-Discrimination Act, which would outlaw discrimination in the workplace based on sexual orientation.

Yet many challenges still lie before us. As we have learned from recent tragedies, prejudice against gays and lesbians can still erupt into acts of hatred and violence. I continue to call upon the Congress to pass meaningful hate crimes legislation to strengthen the Department of Justice's ability to prosecute hate crimes committed due to the victim's sexual orientation.

With each passing year the American people become more receptive to diversity and more open to those who are different from themselves. Our Nation is at last realizing that gays and lesbians must no longer be “strangers among friends,” as the civil rights pioneer David Mixner once noted. Rather, we must finally recognize these Americans for what they are: our colleagues and neighbors, daughters and sons, sisters and brothers, friends and partners.

This June, recognizing the joys and sorrows that the gay and lesbian movement has witnessed and the work that remains to be done, we observe Gay and Lesbian Pride Month and celebrate the progress we have made in creating a society more inclusive and accepting of gays and lesbians. I hope that in this new millennium we will continue to break down the walls of fear and prejudice and work to build a bridge to understanding and tolerance, until gays and lesbians are afforded the same rights and responsibilities as all Americans.

NOW, THEREFORE, I, WILLIAM J. CLINTON, President of the United States of America, by virtue of the authority vested in me by the Constitution and laws of the United States, do hereby proclaim June 2000 as Gay and Lesbian Pride Month. I encourage all Americans to observe this month with appropriate programs, ceremonies, and activities that celebrate our diversity and recognize the gay and lesbian Americans whose many and varied contributions have enriched our national life.

IN WITNESS WHEREOF, I have hereunto set my hand this second day of June, in the year of our Lord two thousand, and of the Independence of the United States of America the two hundred and twenty-fourth.

wj

[FR Doc. 00-14440

Filed 6-5-00; 11:25 am]

Billing code 3195-01-P